ENVIRONMENTAL PROTECTION AGENCY

[FRL-9921-47-Region-1]

Notice of Availability of Draft NPDES General Permit for Stormwater Discharges From Small Municipal Separate Storm Sewer Systems in Massachusetts; Reopening of Comment Period

AGENCY: Environmental Protection Agency.

ACTION: Notice; reopening of comment period.

SUMMARY: Environmental Protection Agency (EPA) issued a Notice of Availability of the draft Small Municipal Separate Storm Sewer System (MS4) National Pollutant Discharge Elimination System (NPDES) general permit for Massachusetts, published in the Federal Register on September 30, 2014. This notice reopens the comment period through February 27, 2015. Comments submitted between the close of the original comment period (December 29, 2014) and the reopening of this comment period will be accepted and considered.

DATES: The comment period for the draft general permit published September 30, 2014 (79 FR 58774) is reopened through February 27, 2014. All comments must be received on or before February 27, 2015.

ADDRESSES: Submit comments by one of the following methods:

• Email: Tedder.Newton@epa.gov.

• Mail: Newton Tedder, US EPA—Region 1, 5 Post Office Square—Suite 100, Mail Code—OEP06-4, Boston, MA 02109-3912.

No facsimiles (faxes) will be accepted.

FOR FURTHER INFORMATION CONTACT: Additional information concerning the draft permit may be obtained between the hours of 9:00 a.m. and 5:00 p.m. Monday through Friday excluding legal holidays from: Newton Tedder, Office of Ecosystem Protection, Environmental Protection Agency, 5 Post Office Square—Suite 100, Boston, MA 02109-3912; telephone: 617-918-1038; email: Tedder.Newton@epa.gov.

SUPPLEMENTARY INFORMATION: This notice reopens the public comment period established in the Federal Register issue of September 30, 2014 (79 FR 58774) (FRL-9917-31-Region-1). In that notice, EPA announced the availability for public comment of its draft small MS4 NPDES general permit for Massachusetts. All draft permit documents can be found at http://www.epa.gov/region1/npdes/stormwater/MS4_MA.html. This reopening of the comment period is in response to requests received from several commenters to extend the comment period.

Dated: December 22, 2014.
Deb Szaro,
Acting Regional Administrator, Region 1.

[FR Doc. 2015-00167 Filed 1-8-15; 8:45 am]

BILLING CODE 6560-50-P